DEPARTMENT OF HOMELAND SECURITY

Coast Guard

33 CFR Part 117

[CGD05-07-047]

RIN 1625-AA-09

Drawbridge Operation Regulations; Intracoastal Waterway (ICW); Inside Thorofare, Atlantic City, NJ

AGENCY: Coast Guard, DHS.

ACTION: Notice of temporary deviation from regulations.

SUMMARY: The Commander, Fifth Coast Guard District, has approved a temporary deviation from the regulations governing the operation of the U.S. 40-322 (Albany Avenue) Bridge, at ICW mile 70.0, across Inside Thorofare at Atlantic City, New Jersey. This deviation allows the drawbridge to remain closed-to-navigation from 10 a.m. to 5 p.m. on August 15, 2007, to facilitate traffic control during the Atlantic City Air Show.

DATES: This deviation is effective from 10 a.m. to 5 p.m. on August 15, 2007.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Waverly W. Gregory, Jr., Bridge Administrator, Fifth Coast Guard District, at (757) 398-6222.

SUPPLEMENTARY INFORMATION: The U.S. 40-322 (Albany Avenue) Bridge, a lift drawbridge, has a vertical clearance in the closed position to vessels of 10 feet, above mean high water.

The Atlantic City Regional Mainland Chamber of Commerce, on behalf of the bridge owner the New Jersey Department of Transportation, has requested a temporary deviation from the current operating regulation set out in 33 CFR 117.733(f) to close the drawbridge to navigation for the sole purpose of traffic control during the Atlantic City Air Show that is scheduled for Wednesday, August 15, 2007.

To facilitate traffic control during the Atlantic City Air Show, the U.S. 40-322 (Albany Avenue) Bridge will be maintained in the closed-to-navigation position from 10 a.m. to 5 p.m. on August 15, 2007.

This deviation from the operating regulations is authorized under 33 CFR 117.35.

Dated: April 24, 2007.
Waverly W. Gregory, Jr.,
Chief, Bridge Administration Branch, Fifth Coast Guard District.

[FR Doc. E7-8493 Filed 5-2-07; 8:45 am]

BILLING CODE 4910-15-P